DEPARTMENT OF LABOR

Employment and Training Administration

Proposed Information Collection Request Submitted for Public Comment and Recommendations; Petition for NAFTA-Transitional Adjustment Assistance

ACTION: Notice.

SUMMARY: The Department of Labor, as part of its continuing effort to reduce paperwork and respondent burden conducts a preclearance consultation program to provide the general public and Federal agencies with an opportunity to comment on proposed and/or continuing collections of information in accordance with the Paperwork Reduction Act of 1995 (PRA 95) (44 U.S.C. 3506(c)(2)(A)). This program helps to ensure that requested data can be provided in the desired format, reporting burden (time and financial resources) is minimized, collection instruments are clearly understood, and the impact of collection requirements on respondents can be properly assessed. Currently, the Employment and Training Administration is soliciting comments concerning the proposed renewal of the information collection of the Petition For NAFTA Transitional Adjustment Assistance, ETA 9042.

A copy of the proposed information collection request can be obtained by contacting the employee listed below in the contact section of this notice.

DATES: Written comments must be submitted on or before July 2, 2001. Written comments should evaluate whether the proposed collection of information is necessary for the proper performance of the functions of the agency, including whether the information will have practical utility, evaluate the accuracy of the agency's estimate of the burden of a proposed collection of information including the validity of the methodology and assumptions used; enhance the quality, utility, and clarity of a information to be collected; and minimize the burden of the collection of information on those who are to respond, including through the use of appropriate automated, electronic, mechanical, or other technological collection techniques or other forms of information technology, e.g., permitting electronic submission of responses.

ADDRESSES: Edward A. Tomchick, Division of Trade Adjustment Assistant, Employment and Training Administration, Department of Labor, Room C-5311, 200 Constitution Avenue, NW., Washington, DC 20210, 202-693-3560 (this is not a toll-free nbumber).

SUPPLEMENTARY INFORMATION:

I. Background

The North American Free Trade Agreement (NAFTA) Implementation Act amended Chapter 2 of Title II of the Trade Act of 1974 to add a Subchapter D—NAFTA Transitional Adjustment Assistance Program. This program provides needed adjustment assistance to workers adversely affected because of imports from Canada or Mexico or shifts of production from the United States to those countries.

Section 250 of the Act authorizes the Governor of each State to accept petitions for certification of eligibility to apply for adjustment assistance. Once a petition for NAFTA adjustment assistance is filed with the Governor in the State where the firm is located, the law gives the Governor ten days to make a preliminary finding of whether the petition meets the group eligibility requirements under Subchapter D, and transmits the finding to the Secretary of Labor. The NAFTA Confidential Data Request Form ETA-9043 establishes the format which has been used by the Governor for making a preliminary finding.

II. Current Actions

This is a request for OMB approval under [the Paperwork Reduction Act of 1995 (44 U.S.C. 3506(c)(2)(A)] for a collection of information assigned OMB Control No. 1205-0339.

Type of Review: Extension without change.

Agency: Employment and Training Administration, Labor.

Title: NAFTA-Confidential Data Request.

OMB Number: 1205-0339.

Agency Number: ETA-9043.

Affected Public: Business and State.

Total Respondents: Estimated 1,000.

Total Respondents: Estimated 1,000.

Frequency: On occasion.

Average Time per Response:

Respondents = 15 minutes.

State Review = 5 minutes.

Estimated Total Burden Hours:

Respondents = 250 hours.

State review = 80 hours.

Total = 330.

Estimated Respondent cost:

Respondents = $6,250.

State review = $1,406.

Total = $7,656.

Comments submitted in response to this notice will be summarized and/or included in the request for Office of Management and Budget approval of the information collection request; they will also become a matter of public record.

Edward A. Tomchick,
Director, Division of Trade Adjustment Assistance.

[FR Doc. 01-11011 Filed 5-1-01; 8:45 am]

BILLING CODE 4510-30-M